FEDERAL COMMUNICATIONS COMMISSION

47 CFR Part 96

[GN Docket No. 12-354, FCC 15-47; 16-55]

Amendment of the Commission's Rules With Regard to Operation in the 3550-3650 MHz Band

AGENCY: Federal Communications Commission.

ACTION: Final rule; announcement of effective date.

SUMMARY: The Federal Communications Commission (Commission) is announcing that three final rules that appeared in the Federal Register as part of the Commission's rulemaking Commercial Operations in the 3550-3650 MHz Band do not need information collection approval from the Office of Management and Budget (OMB) and are effective immediately. This document is consistent with the First Report and Order and Second Report and Order, which stated that the Commission would publish a document in the Federal Register announcing OMB approval and the effective date of these rules.

DATES: 47 CFR 96.29 published at 80 FR 36164, June 23, 2015, and 47 CFR 96.17(b) and 47 CFR 96.3 published at 81 FR 49024, July 26, 2016, are effective on January 9, 2018.

FOR FURTHER INFORMATION CONTACT: Becky Schwartz, Mobility Division, Wireless Telecommunications Bureau, FCC, (202) 418-7178. For additional information concerning the information collection requirements contained in the First Report and Order or Second Report and Order, contact Cathy Williams at (202) 418-2918, or via the internet at PRA@fcc.gov.

SUPPLEMENTARY INFORMATION: The First Report and Order, FCC 15-47, published at 80 FR 36164, June 23, 2015, stated that section 96.29 would not become effective until after the Federal Register publication of the date that OMB approved the resulting modification of the information collections under the Paperwork Reduction Act (PRA) and effective date of such modifications. The Second Report and Order, GN Docket No. 12-354, FCC 16-55, published at 81 FR 49024, July 26, 2016, stated that modifications to section 96.17(b) and section 96.3 would not become effective until after the Federal Register publication of the date that OMB approved the resulting modification of the information collections under the PRA and the effective date of such modifications. Because subsequent review and consultation with OMB has revealed that there is no existing clearance that will be modified by these rules, OMB review is not necessary. Thus, these rules may become effective immediately.

Federal Communications Commission.
Marlene H. Dortch,
Secretary.

[FR Doc. 2018-00190 Filed 1-8-18; 8:45 am]

BILLING CODE 6712-01-P